DEPARTMENT OF JUSTICE

Antitrust Division

Notice Pursuant to the National Cooperative Research and Production Act of 1993—MLCommons Association

Notice is hereby given that, on April 3, 2024, pursuant to section 6(a) of the National Cooperative Research and Production Act of 1993, 15 U.S.C. 4301 et seq. (“the Act”), MLCommons Association (“MLCommons”) filed written notifications simultaneously with the Attorney General and the Federal Trade Commission disclosing changes in its membership. The notifications were filed for the purpose of extending the Act's provisions limiting the recovery of antitrust plaintiffs to actual damages under specified circumstances. Specifically, Turaco Strategy, LLC, Boulder, CO; Cisco Systems Inc., San Jose, CA; Firmus Metal International Pte Ltd., Singapore, SINGAPORE; Ferroceria LLC, Vashon, WA; Andreea Bodnari (individual member), Brooklyn, NY; Percy Liang (individual member), Stanford, CA; Guanqun Yang, (individual member), Hoboken, NJ; Charlie Tan (individual member), Oxford, UNITED KINGDOM; Sergei Cheparukhin (individual member), London, UNITED KINGDOM; Frederik Mallmann-Trenn (individual member), London, UNITED KINGDOM; Shafee Mohammed (individual member), Hyderabad, INDIA; Alexander Kleinsorge, (individual member), Wildau, GERMANY; Cyril Weerasooriya, (individual member), Rochester, NY; Joseph Marvin Imperial (individual member), Bath, UNITED KINGDOM; Robert Scholz (individual member), Paris, FRANCE; Collin McCarthy (individual member), Truckee, CA; and Ray Simar (individual member), Richmond, TX, have been added as parties to this venture.

Also, Biren Technology, San Jose, CA, has withdrawn as a party to this venture.

No other changes have been made in either the membership or planned activity of the group research project. Membership in this group research project remains open, and MLCommons intends to file additional written notifications disclosing all changes in membership.

On September 15, 2020, MLCommons filed its original notification pursuant to section 6(a) of the Act. The Department of Justice published a notice in the Federal Register pursuant to section 6(b) of the Act on September 29, 2020 (85 FR 61032).

The last notification was filed with the Department on January 22, 2024. A notice was published in the Federal Register pursuant to section 6(b) of the Act on February 6, 2024 (89 FR 8242).

Suzanne Morris,
Deputy Director Civil Enforcement Operations, Antitrust Division.

[FR Doc. 2024-07994 Filed 4-15-24; 8:45 am]

BILLING CODE P